DEPARTMENT OF TRANSPORTATION

Federal Aviation Administration

14 CFR Part 39

[Docket No. FAA-2020-1108; Project Identifier AD-2020-01397-T; Amendment 39-21360; AD 2020-26-05]

RIN 2120-AA64

Airworthiness Directives; Textron Aviation Inc. (Type Certificate Previously Held by Cessna Aircraft Company) Airplanes

AGENCY: Federal Aviation Administration (FAA), DOT.

ACTION: Final rule; request for comments.

SUMMARY: The FAA is adopting a new airworthiness directive (AD) for certain Textron Aviation Inc. (type certificate previously held by Cessna Aircraft Company) Model 560XL airplanes. This AD was prompted by an incident where a Model 560XL airplane experienced an uncommanded engine acceleration with the left engine throttle unresponsive to power commands, including engine shut-off. This AD requires an inspection of the rivet of the left and right throttle quadrant assembly (TQA) sensor link and sensor drive arm pivot for correct installation and corrective actions if necessary. The FAA is issuing this AD to address the unsafe condition on these products.

DATES: This AD is effective December 17, 2020.

The Director of the Federal Register approved the incorporation by reference of a certain publication listed in this AD as of December 17, 2020.

The FAA must receive comments on this AD by February 1, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Textron Aviation Inc., P.O. Box 7706, Wichita, KS 67277; phone: (316) 517-5800; website: https://txtav.com. You may review this service information at the FAA, Airworthiness Products Section, Operational Safety Branch, 901 Locust, Kansas City, Missouri 64106. For information on the availability of this material at the FAA, call (816) 329-4148. It is also available at https://www.regulations.gov by searching for and locating Docket No. FAA-2020-1108.

Examining the AD Docket

You may examine the AD docket at https://www.regulations.gov by searching for and locating Docket No. FAA-2020-1108; or in person at Docket Operations between 9 a.m. and 5 p.m., Monday through Friday, except Federal holidays. The AD docket contains this final rule, any comments received, and other information. The street address for the Docket Operations is listed above.

FOR FURTHER INFORMATION CONTACT: Jeffrey Englert, Aviation Safety Engineer, Wichita ACO Branch, FAA, 1801 Airport Road, Room 100, Dwight D. Eisenhower National Airport, Wichita, KS 67209; phone: (316) 946-4167; fax: (316) 946-4107; email: jeffrey.englert@faa.gov.

SUPPLEMENTARY INFORMATION:

Background

The FAA has received a report of an incident where a Model 560XL airplane experienced an uncommanded engine acceleration on the ground following successful engine starts. The left engine throttle was unresponsive to power commands, including engine shut-off. An inspection identified that the left engine's sensor link and sensor drive arm (in the TQA) had separated. A sub-supplier of the TQA components failed to properly squeeze the rivet in a throttle quadrant link assembly. The rivet serves as the pivot between the TQA sensor link and sensor drive arm. The FAA determined that the failure of the TQA caused an asymmetrical uncommanded high-thrust that cannot be corrected by the flight crew in certain phases of flight.

This condition, if not addressed, could result in loss of thrust control, which could cause loss of control of the airplane. The FAA is issuing this AD to address the unsafe condition on these products.

FAA's Determination

The FAA is issuing this AD because the agency has determined the unsafe condition described previously is likely to exist or develop in other products of the same type design.

Related Service Information Under 1 CFR Part 51

The FAA reviewed Textron Aviation Inc. Mandatory Service Letter SL560XL-76-04, Revision 1, dated November 24, 2020. This service information specifies procedures for inspecting the rivet of the left and right TQA sensor link and sensor drive arm pivot for correct installation and, if necessary, replacing the rivet, reworking the diameter of the rivet, and inspecting the rivet butt for cracking. This service information is reasonably available because the interested parties have access to it through their normal course of business or by the means identified in ADDRESSES.

AD Requirements

This AD requires accomplishing the actions specified in the service information described previously, except as discussed under “Differences Between this AD and the Service Information.”

Differences Between This AD and the Service Information

The service information specifies compliance at the next “time limited dispatch check,” not to exceed 170 airplane hours or 6 months, whichever occurs first. However, this AD specifies a compliance time of 50 hours time-in-service.

Interim Action

The FAA considers this AD interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the potential for additional events to occur, based on average operational time, is an unacceptable risk. As a result, the required corrective actions must be accomplished within 50 hours time-in-service, a shorter time than necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include the docket number FAA-2020-1108 and Project Identifier AD-2020-01397-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Jeffrey Englert, Aviation Safety Engineer, Wichita ACO Branch, FAA, 1801 Airport Road, Room 100, Dwight D. Eisenhower National Airport, Wichita, KS 67209; phone: (316) 946-4167; fax: (316) 946-4107; email: jeffrey.englert@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 176 airplanes of U.S. registry. The FAA estimates the following costs to comply with this AD:

Estimated Costs
Action | Labor cost | Parts cost | Cost per product | Cost on U.S. operators
Inspection of the rivet | 1 work-hour × $85 per hour = $85 | $0 | $85 | $14,960

The FAA estimates the following costs to do any necessary inspection, correction, or replacement that would be required based on the results of the inspection. The FAA has no way of determining the number of aircraft that might need these actions:

On-Condition Costs
Actions | Labor cost | Parts cost | Cost per product
Inspection of the rivet butt, modification, and replacement | Up to 3.5 work-hour × $85 per hour = $297.50 | N/A | Up to $297.50.

The FAA has included all known costs in its cost estimate. According to the manufacturer, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-26-05 Textron Aviation Inc. (Type Certificate Previously Held by Cessna Aircraft Company) Airplanes: Amendment 39-21360; Docket No. FAA-2020-1108; Project Identifier AD-2020-01397-T.

(a) Effective Date

This airworthiness directive (AD) is effective December 17, 2020.

(b) Affected ADs

None.

(c) Applicability

This AD applies to Textron Aviation Inc. (Type Certificate previously held by Cessna Aircraft Company) Model 560XL airplanes, certificated in any category, serial numbers 560-6001 through 560-6290 inclusive.

(d) Subject

Joint Aircraft System Component (JASC) Code 7603, POWER LEVER.

(e) Unsafe Condition

This AD was prompted by a report that a Model 560XL airplane experienced an uncommanded engine acceleration with the left engine throttle unresponsive to power commands, including engine shut-off. The FAA is issuing this AD to address loss of thrust control. The unsafe condition, if not addressed, could result in loss of control of the airplane.

(f) Compliance

Comply with this AD within the compliance times specified, unless already done.

(g) Inspections, Correction, and Replacement

Within 50 hours time-in-service after the effective date of this AD, inspect the rivet in the left and right throttle quadrant assembly sensor link and sensor drive arm pivot for correct installation, and do all applicable corrective actions before further flight, in accordance with steps 2 through 5 of the Accomplishment Instructions in Textron Aviation Mandatory Service Letter SL560XL-76-04, Revision 1, dated November 24, 2020.

(h) Credit for Previous Actions

This paragraph provides credit for the actions specified in paragraph (g) of this AD, if those actions were performed before the effective date of this AD using Textron Aviation Mandatory Service Letter SL560XL-76-04, dated November 12, 2020.

(i) Special Flight Permit

Special flight permits may be issued in accordance with 14 CFR 21.197 and 21.199 to operate the airplane to a location where the airplane can be modified, provided there are no passengers onboard the airplane.

(j) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information.

(2) Before using any approved AMOC, notify your appropriate principal inspector, or lacking a principal inspector, the manager of the local flight standards district office/certificate holding district office.

(k) Related Information

For more information about this AD, contact Jeffrey Englert, Aviation Safety Engineer, Wichita ACO Branch, FAA, 1801 Airport Road, Room 100, Dwight D. Eisenhower National Airport, Wichita, KS 67209; phone: (316) 946-4167; fax: (316) 946-4107; email: jeffrey.englert@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Textron Aviation Inc. Mandatory Service Letter SL560XL-76-04, Revision 1, dated November 24, 2020.

(ii) [Reserved]

(3) For Textron Aviation Inc. service information identified in this AD, contact Textron Aviation Inc., P.O. Box 7706, Wichita, KS 67277; phone: (316) 517-5800; website: https://txtav.com.

(4) You may review this referenced service information at the FAA, Airworthiness Products Section, Operational Safety Branch, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on December 8, 2020.
Ross Landes,
Deputy Director for Regulatory Operations, Compliance & Airworthiness Division, Aircraft Certification Service.

[FR Doc. 2020-27741 Filed 12-16-20; 8:45 am]

BILLING CODE 4910-13-P